NATIONAL ARCHIVES AND RECORDS ADMINISTRATION

[NARA-2017-030]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by April 17, 2017. Once NARA completes appraisal of the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules in which agencies propose to destroy records they no longer need to conduct agency business. NARA invites public comments on such records schedules, as required by 44 U.S.C. 3303a(a).

Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

Agencies may not destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or notes that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Health and Human Services, Centers for Medicare & Medicaid Services (DAA-0440-2015-0009, 2 items, 1 temporary item). Records related to research and statistical analysis, including demonstration projects and research-related records. Proposed for permanent retention are public use statistical research files and data sets.

2. Department of Health and Human Services, National Institutes of Health (DAA-0443-2017-0001, 4 items, 4 temporary items). Certificates of Confidentiality records issued for research to include correspondence, denied applications, and issued applications.

3. Department of Homeland Security, Immigration and Customs Enforcement (DAA-0567-2015-0016, 1 item, 1 temporary item). Records related to fugitive alien arrest operations, including operation worksheets and copies of relevant information related to the targeted fugitive.

4. Department of Homeland Security, Transportation Security Administration (DAA-0560-2017-0006, 1 item, 1 temporary item). Records related to internal agency and State Department authorizations for agency staff to travel abroad to perform official duties.

5. Department of Homeland Security, United States Citizenship and Immigration Services (DAA-0566-2016-0017, 2 items, 2 temporary items). Naturalization and citizenship supplementary and process administration forms, which do not document decisions to grant or deny citizenship benefits.

6. Department of Labor, Mine Safety and Health Administration (DAA-0433-2015-0004, 25 items, 14 temporary items). Records related to program development and management, administrative issuances, training and public affairs, and publications. Proposed for permanent retention are high level correspondence, program policies and directives, educational and public affairs products, and publications for the mining industry.

7. Department of Transportation, Pipeline and Hazardous Materials Safety Administration (DAA-0571-2015-0007, 9 items, 8 temporary items). Hazardous materials information system records to include telephonic information on hazardous material incidents and workflow information on approvals of hazardous material processes, special permits, development of standards, enforcement cases, registration of hazardous materials carriers, approval of carrier design certification, and publication requests. Proposed for permanent retention is an incident reporting database.

8. Department of Transportation, Pipeline and Hazardous Materials Safety Administration (DAA-0571-2015-0019, 4 items, 4 temporary items). Records pertaining to field operations, including case files, fitness memos, special project files, and investigator qualifications.

9. Department of Veterans Affairs, Veterans Health Administration (DAA-0015-2016-0007, 6 items, 6 temporary items). Records cover site protection, investigations, and technical assistance on security matters at agency facilities.

10. Broadcasting Board of Governors, International Broadcasting Bureau (DAA-0517-2015-0001, 8 items, 5 temporary items). Records include general program review files and reports, customer surveys, public service announcements, foreign language versions of editorials, working files and reference materials. Proposed for permanent retention are editorials and related clearance correspondence, and leadership subject files.

11. Export-Import Bank of the United States, Office of the Inspector General (DAA-0275-2016-0001, 8 items, 3 temporary items). Routine administrative and program records, including working papers. Proposed for permanent retention are significant investigations, audits and evaluations, annual reports to Congress, and program policy files.

12. National Archives and Records Administration, Government-wide (DAA-GRS-2016-0015, 20 items, 20 temporary items). General Records Schedule for employee compensation and benefits records including records of payroll, its calculation (deductions, withholding, time and attendance, leave donation) and deposit; tax statements; wage surveys; hiring incentives; workers' compensation; various subsidy programs; Family Medical Leave Act program; and program administration.

13. Peace Corps, Office of Global Operations (DAA-0490-2017-0002, 2 items, 1 temporary item). Records include routine program files and working papers. Proposed for permanent retention are policies, assessments, and related reports.

Laurence Brewer,
Chief Records Officer for the U.S. Government.

[FR Doc. 2017-05348 Filed 3-16-17; 8:45 am]

BILLING CODE 7515-01-P